DEPARTMENT OF VETERANS AFFAIRS

VASRD Improvement Forum—Updating Disability Criteria for the Respiratory System, Cardiovascular System, Hearing Impairment, and Ear, Nose and Throat Diseases

AGENCY: Department of Veterans Affairs.

ACTION: Notice of meeting.

SUMMARY: The Veterans Benefits Administration (VBA) and Veterans Health Administration (VHA) will co-host the Department of Veterans Affairs (VA) Schedule for Rating Disabilities (VASRD) Improvement Forum—Updating Disability Criteria for the Respiratory System, Cardiovascular System, Hearing Impairment, and Ear, Nose and Throat Diseases. The purpose of this VASRD Improvement Forum is to capture public comment and current medical science information from presentations made by subject matter experts. VA plans to use this information to update the sections of the VASRD that pertain to the following four body systems: (1) Respiratory System (38 CFR 4.96-4.97), (2) the Cardiovascular System (38 CFR 4.100-4.104), (3) the Impairment of Auditory Acuity (38 CFR 4.85 and 4.86) and (4) Ear, Nose and Throat Diseases (38 CFR 4.87 and 4.97 currently under Schedule of Respiratory System). Specifically, diagnostic code descriptors and evaluation criteria will be discussed. Contingent upon available capacity and time, individuals wishing to make oral statements will be accommodated on a first-come, first-served basis.

DATES: The plenary session on Tuesday, October 11, 2011, will cover hearing impairment and diseases of the ear, nose and throat and auditory acuity. The plenary session on Thursday, October 13, 2011, will cover the respiratory system. The plenary session on Tuesday, October 18, 2011, will cover the cardiovascular system. All plenary sessions will be held at the VHA New York Harbor Health Care System, Manhattan Campus from 8:30 a.m.-4:30 p.m. Work group meetings for the corresponding VASRD systems will be held the day following the plenary sessions from 8:30-4:30 p.m. at the VBA New York Regional Office. The Auditory Acuity and Ear, Nose and Throat Diseases Work Group meeting will take place on Wednesday, October 12, 2011, the Respiratory System Work Group will meet on Friday, October 14, 2011, and on Wednesday, October 19 and Thursday, October 20, 2011, the Cardiovascular Work Group will meet.

ADDRESSES: The plenary sessions will be held at the VHA New York Harbor Healthcare System, Manhattan Campus, located at 423 East 23 Street, New York, NY 10010, and the work group meetings will occur at the VBA New York Regional office located at 245 West Houston Street, New York, NY 10014.

FOR FURTHER INFORMATION CONTACT: Dr. Nick Olmos-Lau, M.D., Regulation Staff (211D), Compensation Service, Department of Veterans Affairs, 810 Vermont Avenue NW., Washington, DC 20420. Anyone wishing to attend these meetings or seeking additional information may also contact Dr. Olmos-Lau at (202) 461-9695 or Nick.Olmos-Lau@va.gov.

Dated: September 29, 2011.
John R. Gingrich,
Chief of Staff, Department of Veterans Affairs.

[FR Doc. 2011-25780 Filed 10-5-11; 8:45 am]

BILLING CODE 8320-01-P